DEPARTMENT OF HEALTH AND HUMAN SERVICES

Centers for Disease Control and Prevention

[Program Announcement 01125]

United Nations Foundation: Measles Control and Related Childhood Morbidity Reduction Program; Notice of Availability of Funds

A. Purpose

The Centers for Disease Control and Prevention (CDC) announces the availability of fiscal year (FY) 2001 funds for a cooperative agreement program for control of vaccine preventable diseases with an emphasis on reducing morbidity and mortality caused by measles. This program addresses the “Healthy People 2010” focus area of Immunization and Infectious Diseases. The purpose of the program is to support global measles control and morbidity reduction by facilitating the provision of bundled measles vaccine*, technical, laboratory, programmatic consultants, and other services, as needed, to the governments of measles endemic countries.

Note: The term “bundled” refers to vaccine and supplies required to ensure safe injection and safe disposal of vaccine vials and injection materials. Additionally, measles vaccine procurement may include the purchase of vaccine containing antigens for measles (M), measles and rubella (MR), or measles, mumps and rubella (MMR) as per requirements set forth under specific national immunization policies of countries supported under this agreement.

B. Eligible Applicant

Assistance will be provided only to the United Nations Foundation. No other applications are solicited.

Eligibility is limited to the United Nations Foundation (UNF) because it is the most appropriate and qualified agency to conduct the activities under this cooperative agreement:

1. UNF is the only organization whose mission is to serve as the global advocate for United Nations Programmes. The UNF seeks to support the goals and objectives of the United Nations and its Charter in order to promote a more peaceful, prosperous, and just world—with special emphasis on the UN's work, especially on behalf of economic, social, environmental and humanitarian causes. The UNF lists children's health as one of its top four program priorities. Within this priority lies the support of programs seeking to reduce childhood mortality.

2. The proposed program is strongly supportive of, and directly related to, the achievement of United Nations Programmes and CDC/National Immunization Program objectives for the control and prevention of vaccine preventable diseases and coincident reduction in childhood mortality [approximately 900,000 children die per year due to measles related complications].

The UNF's role as a supporter of United Nations Programmes concerned with children's health issues and programs, together with the United States Agency for International Development (USAID), the Canadian International Development Agency, the American Red Cross, CDC, and others, are partners in an international effort to increase support and visibility for measles control and mortality reduction.

Note: Title 2 of the United States Code, Chapter 26, section 1611 states that an organization described in section 501(c)(4) of the Internal Revenue Code of 1986 that engages in lobbying activities is not eligible to receive Federal funds constituting an award, grant, cooperative agreement, contract, loan, or any other form.

C. Availability of Funds

Approximately $5 million is available in FY 2001 to fund this award. It is expected that this award will begin on or about September 1, 2001 and will be made for a 12-month budget period within a project period of up to five years. Funding estimates may change.

Continuation awards within an approved project period will be made on the basis of satisfactory progress as evidenced by required reports and the availability of funds.

D. Where To Obtain Additional Information

To obtain business management technical assistance, contact: Mike Smiley, Grants Management Specialist, Grants Management Branch, Procurement and Grants Office, Centers for Disease Control and Prevention, 2920 Brandywine Road, Room 3000, Atlanta, GA 30341-4146, Telephone number: (770) 488-2718, E-mail address: znr6@cdc.gov.

For program technical assistance, contact: Leo Weakland, Deputy Chief, Global Measles Branch, Centers for Disease Control and Prevention, MS-E05, 1600 Clifton Rd., Atlanta, GA 30333, Telephone number: (404) 639-8404, E-mail address: lfw0@cdc.gov.

Dated: May 16, 2001.
Henry S. Cassell III,
Acting Director, Procurement and Grants Office, Centers for Disease Control and Prevention (CDC).

[FR Doc. 01-12814 Filed 5-21-01; 8:45 am]

BILLING CODE 4163-18-P